SECURITIES AND EXCHANGE COMMISSION

Sunshine Act Meetings

FEDERAL REGISTER CITATION OF PREVIOUS ANNOUNCEMENT: 83 FR 64630, 17 December 2018.

PREVIOUSLY ANNOUNCED TIME AND DATE OF THE MEETING: Wednesday, December 19, 2018 at 10:00 a.m.

CHANGES IN THE MEETING: The following item will not be considered during the Open Meeting on Wednesday, July 18, 2018:

• Whether to issue a Request for Comment on nature and content of quarterly reports and earnings releases issued by reporting companies.

CONTACT PERSON FOR MORE INFORMATION: For further information and to ascertain what, if any, matters have been added, deleted or postponed, please contact the Office of the Secretary at (202) 551-5400.

Dated: December 18, 2018.
Brent J. Fields,
Secretary.

[FR Doc. 2018-27753 Filed 12-18-18; 4:15 pm]

BILLING CODE 8011-01-P